DEPARTMENT OF COMMERCE

International Trade Administration

[A-469-807]

Stainless Steel Wire Rod From Spain: Extension of Time Limit for Preliminary Results of Antidumping Duty Administrative Review

AGENCY: Import Administration, International Trade Administration, Department of Commerce.

EFFECTIVE DATE: May 8, 2000.

FOR FURTHER INFORMATION CONTACT: Howard Smith at (202) 482-5193 or Timothy Finn at (202) 482-0065, Import Administration, International Trade Administration, U.S. Department of Commerce, 14th Street and Constitution Ave, NW, Washington, DC 20230.

Time Limits

Statutory Time Limits

Section 751(a)(3)(A) of the Tariff Act of 1930, as amended (“the Act”), requires the Department of Commerce (“the Department”) to make a preliminary determination within 245 days after the last day of the anniversary month of an order or finding for which a review is requested. However, if it is not practicable to complete the preliminary results of review within this time period, section 751(a)(3)(A) of the Act allows the Department to extend the time limit for the preliminary determination to a maximum of 365 days.

Background

On November 4, 1999, the Department published a notice of initiation of administrative review of the antidumping duty order on stainless steel wire rod from Spain, covering the period March 5, 1998 through August 31, 1999 (64 FR 60161). The preliminary results are currently due no later than June 1, 2000.

Extension of Time Limit for Preliminary Results of Review

We determine that it is not practicable to complete the preliminary results of this review within the original time limit. See Decision Memorandum from Tom Futtner to Holly A. Kuga, dated April 28, 2000, which is on file in the Central Records Unit, Room B-099 of the main Commerce building. Therefore the Department is extending the time limit for completion of the preliminary results until no later than September 29, 2000. We intend to issue the final results no later than 120 days after the publication of the preliminary results notice.

This extension is in accordance with section 751(a)(3)(A) of the Act.

Dated: April 28, 2000.
Holly A. Kuga,
Acting Deputy Assistant Secretary, Import Administration, Group II.

[FR Doc. 00-11459 Filed 5-5-00; 8:45 am]

BILLING CODE 3510-DS-P